DEPARTMENT OF HEALTH AND HUMAN SERVICES

Administration for Children and Families

Submission for Office of Management and Budget Review; State Self-Assessment Review and Report (Office of Management and Budget No.: 0970-0223)

AGENCY: Office of Child Support Enforcement, Administration for Children and Families, U.S. Department of Health and Human Services.

ACTION: Request for public comments.

SUMMARY: The Administration for Children and Families (ACF), Office of Child Support Enforcement (OCSE), is requesting the Office of Management and Budget (OMB) to approve an extension of the State Self-Assessment Review and Report (SARR) for an additional three years. The information collected in the reports helps state child support agencies and OCSE determine whether the agencies meet federal child support performance requirements. The contact information has been revised. The current OMB approval expires May 31, 2025.

DATES: Comments due within 30 days of publication. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: State child support agencies are statutorily required to annually assess the performance of their child support programs and to provide a report of the findings to the Secretary of the U.S. Department of Health and Human Services. The information collected in the SARR is used as a management tool to determine whether states are complying with federal mandates and to help states evaluate their programs and assess performances. A related notice inviting public comment, which published September 4, 2024, (89 FR 71905) referenced edits to change OCSE to the Office of Child Support Services. This change is no longer relevant and has not been incorporated in the final version for OMB review. The contact information was updated with current information.

Respondents: States and territories administering a child support program under title IV-D of the Social Security Act.

Annual Burden Estimates
Instrument | Total number of annual respondents | Total number of annual responses per respondent | Average annual burden hours per response | Annual burden hours
SARR Reporting Format and Instructions | 54 | 1 | 8 | 432

Authority: 42 U.S.C. 654(15)(A); 45 CFR 308.1(e).

Mary C. Jones,
ACF/OPRE Certifying Officer.

[FR Doc. 2025-09368 Filed 5-23-25; 8:45 am]

BILLING CODE 4184-41-P